NATIONAL COUNCIL ON DISABILITY

International Watch Advisory Committee Meetings (Conference Calls); Correction

ACTION: Notice; correction.

SUMMARY: The National Council on Disability published a document in the Federal Register on December 2, 2002, concerning meeting dates for its International Watch Advisory Committee. The document contained one incorrect date.

FOR FURTHER INFORMATION CONTACT: Joan M. Durocher, Attorney Advisor and Designated Federal Official, National Council on Disability, 1331 F Street NW., Suite 850, Washington, DC 20004; 202-272-2004 (voice), 202-272-2074 (TTY), 202-272-2022 (fax), jdurocher@ncd.gov (e-mail).

Correction

In the Federal Register of December 2, 2002, in FR Doc. 02-30401, on page 71595, correct the “Time and Dates for 2003” caption to read:

Time and Dates for 2003: 12 noon, Eastern Time, January 9, March 13, May 1, July 3, September 4, November 6.

Dated: January 27, 2003.
Ethel D. Briggs,
Executive Director.

[FR Doc. 03-2191 Filed 1-29-03; 8:45 am]

BILLING CODE 6820-MA-P